DEPARTMENT OF HEALTH AND HUMAN SERVICES

National Advisory Committee on Individuals With Disabilities and Disasters: Establishment; Correction

AGENCY: Office of the Assistant Secretary for Preparedness and Response (ASPR), Department of Health and Human Services (HHS).

ACTION: Notice; correction.

SUMMARY: The Office of the Secretary has extended the application period for accepting application submissions from qualified individuals who wish to be considered for membership on the National Advisory Committee on Individuals with Disabilities and Disasters (NACIDD). Up to seven new voting members with expertise disability accessibility, medical disaster planning, preparedness, response, or recovery will be selected for the Committee. Please visit the NACIDD website at www.phe.gov/nacidd for all application submission information and instructions. Application submissions will be accepted until July 12, 2021.

DATES: The application period has been extended and will now end on July 12, 2021.

FOR FURTHER INFORMATION CONTACT: Maxine Kellman, DVM, Ph.D., PMP, Designated Federal Official for National Advisory Committees, Washington, DC, Office (202) 260-0447 or email maxine.kellman@hhs.gov.

Corrections

1. Correction to final notice published in the Federal Register on May 13, 2021 entitled “National Advisory Committee on Individuals with Disabilities and Disasters.”

Amendment to the application period which has been extended and applications will be accepted until July 12, 2021.

Karuna Seshasai,
Executive Secretary to the Department, U.S. Department of Health and Human Services.

[FR Doc. 2021-14059 Filed 6-30-21; 8:45 am]

BILLING CODE 4150-37-P